DEPARTMENT OF VETERANS AFFAIRS

Privacy Act of 1974; System of Records

AGENCY: Department of Veterans Affairs (VA).

ACTION: Notice of Amendment to System of Records.

SUMMARY: As required by the Privacy Act of 1974, 5 U.S.C. 552a(e), notice is hereby given that the Department of Veterans Affairs (VA) is amending the system of records currently entitled “Health Administration Center Civilian Health and Medical Program Records—VA” (54VA16) as set forth in the Federal Register 68 FR 53784. VA is amending the system of records by revising the System Location; Categories of Individuals Covered by the System; Routine Uses of Records Maintained in the System, Including Categories of Users and the Purposes of Such Uses; Safeguards, System Manager(s) and Address; and Notification Procedure. VA is republishing the system notice in its entirety.

DATES: Comments on the amendment of this system of records must be received no later than August 14, 2009. If no public comment is received, the amended system will become effective August 14, 2009.

ADDRESSES: Written comments may be submitted through http://www.Regulations.gov; by mail or hand-delivery to Director, Regulations Management (02REG), Department of Veterans Affairs, 810 Vermont Avenue, NW., Room 1068, Washington, DC 20420; or by fax to (202) 273-9026. Comments received will be available for public inspection in the Office of Regulation Policy and Management, Room 1063B, between the hours of 8 a.m. and 4:30 p.m., Monday through Friday (except holidays). Please call (202) 461-4902 (this is not a toll-free number) for an appointment. In addition, during the comment period, comments may be viewed online through the Federal Docket Management System (FDMS) at http://www.Regulations.gov.

FOR FURTHER INFORMATION CONTACT: Veterans Health Administration (VHA) Privacy Officer, Department of Veterans Affairs, 810 Vermont Avenue, NW., Washington, DC 20420; telephone (704) 245-2492.

SUPPLEMENTARY INFORMATION: The system location has been amended to reflect the address change of the VA Health Administration Center (HAC), Denver, Colorado. Categories of Individuals Covered by the System has been amended to include dependents of veterans who receive community fee for service benefits and to reflect that records are maintained on all health care providers who provide care under the programs administered by HAC. Routine Uses of Records Maintained in the System, including Categories of Users and the Purposes of Such Uses has been amended. The introductory paragraph was reworded to indicate compliance with VA's statutory requirements governing confidentiality of certain medical records.

The Privacy Act permits VA to disclose information about individuals without their consent for a routine use when the information will be used for a purpose that is compatible with the purpose for which VA collected the information. In all of the routine use disclosures described above, the recipient of the information will use the information in connection with a matter relating to one of VA's programs, or to provide a benefit to VA, or disclosure is required by law.

Additional language was added in the Safeguards section to clarify how types of records are controlled at the Health Administration Center. The system manager(s) and address has been updated to reflect the correct title for the official responsible for policies and procedures and the new address for the Health Administration Center. The new address is also reflected in the paragraph on Notification Procedure.

The Report of Intent to Amend a System of Records Notice and an advance copy of the system notice have been sent to the appropriate Congressional committees and to the Director of the Office of Management and Budget (OMB) as required by 5 U.S.C. 552a(r) (Privacy Act) and guidelines issued by OMB (65 FR 77677), December 12, 2000.

Routine use 25 was added to disclose identifying information, including social security number, of veterans, spouse(s) of veterans, and dependents of veterans, may be disclosed to other Federal agencies for purposes of conducting computer matches, to obtain information to determine or verify eligibility of veterans who are receiving VA medical care under relevant sections of Title 38, U.S.C. This routine use has been added to allow VA to conduct computer matching activities with other Federal agencies where necessary to assist VA in determining or verifying eligibility for certain benefits.

Routine use 26 was added to disclose information to other Federal agencies that may be made to assist such agencies in preventing and detecting possible fraud or abuse by individuals in their operations and programs. This routine use permits disclosures by the Department to report a suspected incident of identity theft and provide information and/or documentation related to or in support of the reported incident.

Routine use 27 was added so that VA may, on its own initiative, disclose any information or records to appropriate agencies, entities, and persons when (1) VA suspects or has confirmed that the integrity or confidentiality of information in the system of records has been compromised; (2) the Department has determined that as a result of the suspected or confirmed compromise, there is a risk of embarrassment or harm to the reputations of the record subjects, harm to economic or property interests, identity theft or fraud, or harm to the security, confidentiality, or integrity of this system or other systems or programs (whether maintained by the Department or another agency or entity) that rely upon the potentially compromised information; and (3) the disclosure is to agencies, entities, or persons whom VA determines are reasonably necessary to assist or carry out the Department's efforts to respond to the suspected or confirmed compromise and prevent, minimize, or remedy such harm. This routine use permits disclosures by the Department to respond to a suspected or confirmed data breach, including the conduct of any risk analysis or provision of credit protection services as provided in 38 U.S.C. 5724, as the terms are defined in 38 U.S.C. 5727.

Approved: June 26, 2009.
John R. Gingrich,
Chief of Staff, Department of Veterans Affairs.

54VA16

SYSTEM NAME:

“Health Administration Center Civilian Health and Medical Program Records—VA.”

SYSTEM LOCATION:

Records are maintained at the Health Administration Center (HAC), 3773 Cherry Creek North Drive, Denver, Colorado 80209.

CATEGORIES OF INDIVIDUALS COVERED BY THE SYSTEM:

Categories of individuals covered by the system include the following:

1. Dependents of veterans who seek health care under 38 U.S.C. 1781, 1802, 1803, 1813 and Public Law 103-446, section 107.

2. Veterans seeking health care services in a foreign country under 38 U.S.C. 1724.

3. Veterans or dependents receiving community fee for service benefits at VA expense under Title 38 U.S.C 1703, 1725 and 1728.

4. Health care providers treating individuals who receive care under 38 U.S.C. 1703, 1724, 1725, 1728, 1781, 1803, 1813, and Public Law 103-446 section 107.

CATEGORIES OF RECORDS IN THE SYSTEM:

Records maintained in the system include medical benefit application and eligibility information concerning the veteran and, when applicable, their spouse and/or dependent(s), other health insurance information, correspondence concerning individuals and documents pertaining to claims for medical services, information related to claims processing and third party liability recovery actions taken by VA and/or TRICARE. The record may include the name, address and other identifying information concerning health care providers, services provided, amounts claimed and paid for health care services, medical records, and treatment and payment dates. Additional information may include veteran, spouse and/or dependent identifying information (e.g., name, address, social security number, VA claims file number, date of birth), and military service information concerning the veteran sponsor (e.g., dates, branch and character of service, medical information).

AUTHORITY FOR MAINTENANCE OF THE SYSTEM:

Title 38, United States Code, sections 501(a), 501(b), 1703, 1724, 1725, 1728, 1781, 1802, 1803, 1813, and Public Law 103-446 section 107.

PURPOSE(S):

Records may be used for purposes of establishing and monitoring eligibility to receive VA benefits and processing medical claims for payment for eligible beneficiaries and veterans.

ROUTINE USES OF RECORDS MAINTAINED IN THE SYSTEM, INCLUDING CATEGORIES OF USERS AND THE PURPOSES OF SUCH USES:

To the extent that records contained in the system include information protected by 45 CFR Parts 160 and 164, i.e., individually identifiable health information, and 38 U.S.C. 7332, i.e., medical treatment information related to drug abuse, alcoholism or alcohol abuse, sickle cell anemia or infection with the human immunodeficiency virus, that information cannot be disclosed under a routine use unless there is also specific statutory authority in 38 U.S.C. 7332 and regulatory authority in 45 CFR Parts 160 and 164 permitting disclosure.

1. Eligibility and claim information from this system of records may be disclosed verbally or in writing. For example, disclosure may be made via correspondence, call service center or by interactive Web page, in response to an inquiry made by the claimant, claimant's guardian, claimant's next of kin or person with whom the claimant has a meaningful relationship, health care provider, trading partner or contractor. Purposes of these disclosures are to assist the provider or claimant in obtaining reimbursement for claimed medical services, to facilitate billing processes, to verify beneficiary eligibility for requested services, and to provide payment information regarding claimed services. Eligibility or entitlement information disclosed may include the name, authorization number (social security number), effective dates of eligibility, reasons for any period of ineligibility, and other health insurance information of the named individual. Claim information disclosed may include payment information such as payment identification number, date of payment, date of service, amount billed, amount paid, name of payee, or reasons for non-payment.

2. Statistical and other data to Federal, State, and local government agencies and national health organizations to assist in the development of programs that will be beneficial to health care recipients, to protect their rights under the law, and to ensure that they are receiving all health benefits to which they are entitled.

3. VA may disclose on its own initiative any information in this system, except the names and home addresses of veterans and their dependents, which is relevant to a suspected or reasonably imminent violation of law, whether civil, criminal or regulatory in nature, and whether arising by general or program statute or by regulation, rule or order issued pursuant thereto, to a Federal, State, local, Tribal, or foreign agency charged with the responsibility of investigating or prosecuting such violation, or charged with enforcing or implementing the statute, regulation, rule or order. On its own initiative, VA may also disclose the names and addresses of veterans and their dependents to a Federal agency charged with the responsibility of investigating or prosecuting civil, criminal or regulatory violations of law, or charged with enforcing or implementing the statute, regulation, rule or order issued pursuant thereto.

4. A record from this system of records may be disclosed to a Federal agency upon its request for use in the issuance of a security clearance, the investigation of an employee, the letting of a contract, or the issuance of a license, grant or other benefit by the requesting agency, to the extent that the information is relevant and necessary to the requesting Agency's decision on the matter.

5. Disclosure may be made to a congressional office from the record of an individual in response to an inquiry from the congressional office made at the request of that individual.

6. Disclosure may be made to National Archives and Records Administration and to General Services Administration in records management inspections conducted under authority of 44 U.S.C.

7. Any relevant information in this system of records may be disclosed to attorneys, insurance companies, employers, and to courts, boards, or commissions; such disclosures may be made only to the extent necessary to aid the VA in preparation, presentation, and prosecution of claims authorized under Federal, State, or local laws, and regulations promulgated thereunder.

8. Any information in this system of records may be disclosed to the United States Department of Justice or United States Attorneys in order to prosecute or defend litigation involving or pertaining to the United States, or in which the United States has an interest.

9. Any information in this system of records may be disclosed to a Federal agency or party to an administrative proceeding being conducted by a Federal agency, in order for VA to respond to and comply with the issuance of an order by that Federal agency requiring production of the information.

10. Any information in this system of records may be disclosed to a State or municipal grand jury, a State or municipal court or a party in litigation, or to a State or municipal administrative agency functioning in a quasi-judicial capacity or a party to a proceeding being conducted by such agency, provided that any disclosure of claimant information made under this routine use must comply with the provisions of 38 CFR 1.511.

11. Any information concerning the claimant's indebtedness to the United States by virtue of a person's participation in a benefits program administered by VA, including personal information obtained from other Federal agencies through computer matching programs, may be disclosed to any third party, except consumer reporting agencies, in connection with any proceeding for the collection of any amount owed to the United States. Purposes of these disclosures may be to assist VA in collection of costs of services provided individuals not entitled to such services and to initiate legal actions for prosecuting individuals who willfully or fraudulently obtain Title 38 benefits without entitlement. This disclosure is consistent with 38 U.S.C. 5701(b)(6).

12. Any relevant information from this system of records may be disclosed to TRICARE, the Department of Defense (DoD) and the Defense Eligibility Enrollment Reporting System (DEERS) to the extent necessary to determine eligibility for the Civilian Health and Medical Program of the Department of Veterans Affairs (CHAMPVA) or TRICARE benefits, to develop and process CHAMPVA or TRICARE claims, and to develop cost-recovery actions for claims involving individuals not eligible for the services or claims involving potential third party liability.

13. The name and address of a veteran or dependent, and other information as is reasonably necessary to identify such individual, may be disclosed to a consumer reporting agency for the purpose of locating the individual or obtaining a consumer report to determine the ability of the individual to repay an indebtedness to the United States by virtue of the individual's participation in a benefits program administered by VA, provided that the requirements of 38 U.S.C. 5701(g)(2) have been met.

14. The name and address of a veteran or dependent, and other information as is reasonably necessary to identify such individual, including personal information obtained from other Federal agencies through computer matching programs, and any information concerning the individual's indebtedness to the United States by virtue of the individual's participation in a benefits program administered by VA, may be disclosed to a consumer reporting agency for purposes of assisting in the collection of such indebtedness, provided that the requirements of 38 U.S.C. 5701(g)(4) have been met.

15. In response to an inquiry about a named individual from a member of the general public, disclosure of information may be made from this system of records to report the amount of VA monetary benefits being received by the individual. This disclosure is consistent with 38 U.S.C. 5701(c)(1).

16. The name and address of a veteran or dependent may be disclosed to another Federal agency or to a contractor of that agency, at the written request of the head of that agency or designee of the head of that agency, for the purpose of conducting government research necessary to accomplish a statutory purpose of that agency.

17. Any information in this system of records relevant to a claim of a veteran or dependent, such as the name, address, the basis and nature of a claim, amount of benefit payment information, medical information and military service and active duty separation information may be disclosed at the request of the claimant to accredited service organizations, VA approved claim agents and attorneys acting under a declaration of representation, so that these individuals can aid claimants in the preparation, presentation and prosecution of claims under the laws administered by VA. The name and address of a claimant will not, however, be disclosed to these individuals under this routine use if the claimant has not requested the assistance of the accredited service organization, claims agent or an attorney.

18. Any information in this system, including medical information, the basis and nature of claim, the amount of benefits and personal information may be disclosed to a VA Federal fiduciary or a guardian ad litem in relation to his or her representation of a claimant only to the extent necessary to fulfill the duties of the VA Federal fiduciary or the guardian ad litem.

19. The individual's name, address, social security number and the amount (excluding interest) of any indebtedness which is waived under 38 U.S.C. 3102, compromised under 4 CFR Part 103, otherwise forgiven, or for which the applicable statute of limitations for enforcing collection has expired, may be disclosed to the Treasury Department, Internal Revenue Service, as a report of income under 26 U.S.C. 61(a)(12).

20. The name of a veteran or dependent, other information as is reasonably necessary to identify such individual, and any other information concerning the individual's indebtedness by virtue of a person's participation in a benefits program administered by VA, may be disclosed to the Treasury Department, Internal Revenue Service, for the collection of Title 38, U.S.C. benefit overpayments, overdue indebtedness, and/or costs of services provided to an individual not entitled to such services, by the withholding of all or a portion of the person's Federal income tax refund.

21. The name, date of birth and social security number of a veteran, spouse or dependent, and other identifying information as is reasonably necessary may be disclosed to Social Security Administration and Centers for Medicare & Medicaid Services, Department of Health and Human Services, for the purpose of validating social security numbers and Medicare information.

22. The name and address of any health care provider in this system of records who has received payment for claimed services on behalf of a veteran and beneficiary may be disclosed in response to an inquiry from a member of the general public who requests assistance in locating medical providers who accept VA payment for health care services.

23. Relevant information from this system of records may be disclosed to individuals, organizations, private or public agencies, etc., with whom VA has a contract or agreement to perform such services as VA may deem practicable for the purposes of laws administered by VA in order for the contractor or subcontractor to perform the services of the contract or agreement.

24. Relevant information from this system of records may be disclosed to an accrediting Quality Review and Peer Review Organization in connection with the review of claims or other review activities associated with VA Health Administration Center accreditation to professionally accepted claims processing standards.

25. Identifying information, including social security number, of veterans, spouse(s) of veterans, and dependents of veterans, may be disclosed to other Federal agencies for purposes of conducting computer matches, to obtain information to determine or verify eligibility of veterans who are receiving VA medical care under relevant sections of Title 38, U.S.C.

26. Disclosure to other Federal agencies may be made to assist such agencies in preventing and detecting possible fraud or abuse by individuals in their operations and programs.

27. VA may, on its own initiative, disclose any information or records to appropriate agencies, entities, and persons when (1) VA suspects or has confirmed that the integrity or confidentiality of information in the system of records has been compromised; (2) the Department has determined that as a result of the suspected or confirmed compromise, there is a risk of embarrassment or harm to the reputations of the record subjects, harm to economic or property interests, identity theft or fraud, or harm to the security, confidentiality, or integrity of this system or other systems or programs (whether maintained by the Department or another agency or entity) that rely upon the potentially compromised information; and (3) the disclosure is to agencies, entities, or persons whom VA determines are reasonably necessary to assist or carry out the Department's efforts to respond to the suspected or confirmed compromise and prevent, minimize, or remedy such harm. This routine use permits disclosures by the Department to respond to a suspected or confirmed data breach, including the conduct of any risk analysis or provision of credit protection services as provided in 38 U.S.C. 5724, as the terms are defined in 38 U.S.C. 5727.

POLICIES AND PRACTICES FOR STORING, RETRIEVING, ACCESSING, RETAINING, AND DISPOSING OF RECORDS IN THE SYSTEM:

STORAGE:

Records are stored electronically, in paper folders, magnetic discs, and magnetic tape. Paper documents may be scanned/digitized and stored for viewing electronically.

RETRIEVABILITY:

Paper records are retrieved by name or VA claims file number or social security number of the veteran sponsor. Computer records are retrieved by name or social security number of the veteran sponsor, spouse, and/or dependent, or VA claims file number of the veteran sponsor.

SAFEGUARDS:

Working spaces and record storage areas at HAC are secured during all business and non-business hours. All entrance doors require an electronic pass card for entry. The HAC Security Officer issues electronic pass cards. HAC staff control visitor entry by door release and escort. The building is equipped with an intrusion alarm system monitored by HAC security staff during business hours and by a security service vendor during non-business hours. Electronic/Digital records are stored in an electronic controlled storage filing area. Paper records in work areas are stored in locked file cabinets or locked rooms. Access to record storage areas is restricted to VA employees on a “need-to-know” basis. Access to the computer room is generally limited by appropriate locking devices and restricted to authorized VA employees and vendor personnel. Automated Data Processing (ADP) peripheral devices are generally placed in secure areas or are otherwise protected. Authorized VA employees may access information in the computer system by a series of individually unique passwords/codes.

RETENTION AND DISPOSAL:

Records are maintained and disposed of in accordance with record disposition authority approved by the Archivist of the United States. Paper records that are scanned and digitized for viewing electronically are destroyed after they have been scanned onto optical disks, and the electronic copy determined to be an accurate and complete copy of the paper record scanned.

SYSTEM MANAGER(S) AND ADDRESS:

Official responsible for policies and procedures: Chief Business Officer (16), Department of Veterans Affairs, Veterans Health Administration, VA Central Office, 810 Vermont Avenue, NW., Washington, DC 20420. Official Maintaining the System: Director, Health Administration Center, Department of Veterans Affairs, P.O. Box 469060, Denver, CO 80246-9060.

NOTIFICATION PROCEDURE:

Any individual who wishes to determine whether a record is being maintained in this system under his or her name or other personal identifier, or wants to determine the contents of such record, should submit a written request to Director, VA Health Administration Center, P.O. Box 469060, Denver, Colorado 80246-9060, or apply in person to the Director, VA Health Administration Center, 3773 Cherry Creek North Drive, Colorado 80209. Inquiries should include the veteran sponsor's full name and social security and VA claims file numbers, and the spouse or dependent's name, social security number and return address.

RECORD ACCESS PROCEDURE:

An individual who seeks access to records maintained under his or her name in this system may write or visit the Director, VA Health Administration Center.

CONTESTING RECORD PROCEDURES:

(See Record Access Procedures above.)

RECORD SOURCE CATEGORIES:

The veteran sponsor, spouse and/or dependent, military service departments, private medical facilities and health care professionals, electronic trading partners, contractors, DoD, TRICARE, DEERS, other Federal agencies, VA Regional Offices, Veterans Benefits Administration (VBA) automated record systems, and VA Medical Centers.

[FR Doc. E9-16751 Filed 7-14-09; 8:45 am]

BILLING CODE 8320-01-P